DEPARTMENT OF THE INTERIOR

National Park Service

Environmental Statements; Record of Decision: General Management Plan for Boston Harbor Islands National Recreation Area

AGENCY: National Park Service, Department of the Interior.

ACTION: Notice of Availability of Record of Decision on Final Environmental Impact Statement for General Management Plan, Boston Harbor Islands National Recreation Area.

SUMMARY: Pursuant to section 102(2)(C) of the National Environmental Policy Act of 1969, Public Law 91-190, 83 Stat 852, as codified as amended at 42 U.S.C. 4332(2)(C), the National Park Service announces the availability of a record of decision on the abbreviated final environmental impact statement for the Boston Harbor Islands general management plan. On October 17, 2005 the Northeast Regional Director approved the Record of Decision for the project. The Record of Decision concludes the environmental analysis of the first general management for Boston Harbor Islands National Recreation Area and adopts the plan. The plan defines the park's mission and management direction and establishes a basic foundation for decision making in consultation with stakeholders. The primary action of the plan is to designate specific “management areas” for each area of the Boston Harbor Islands National Recreation Area. An extensive participatory process has characterized the development of the general management plan, including consultation with American Indian tribes. Implementation of the proposed general management plan would not result in the impairment of park resources and would enable the Boston Harbor Islands Partnership to protect park resources and provide for their enjoyment by visitors. The National Park Service commits to take all practicable measures to avoid or minimize environmental impacts that could result from implementation of the general management plan.

Dated: October 17, 2005.
Mary A. Bomar,
Regional Director, Northeast Region.

[FR Doc. 05-22530 Filed 11-10-05; 8:45 am]

BILLING CODE 4312-52-P